DEPARTMENT OF COMMERCE

National Oceanic and Atmospheric Administration

50 CFR Part 660

[Docket No. 210505-0101]

RIN 0648-BJ97

Fisheries Off West Coast States; West Coast Salmon Fisheries; 2021 Management Measures

AGENCY: National Marine Fisheries Service (NMFS), National Oceanic and Atmospheric Administration (NOAA), Commerce.

ACTION: Final rule.

SUMMARY: Through this final rule, NMFS establishes fishery management measures for the 2021 ocean salmon fisheries off Washington, Oregon, and California and the 2022 salmon seasons opening earlier than May 16, 2022, under authority of the Magnuson-Stevens Fishery Conservation and Management Act (MSA). Specific fishery management measures vary by fishery and by area, and establish fishing areas, seasons, quotas, legal gear, recreational fishing days and catch limits, possession and landing restrictions, and minimum lengths for salmon taken in the U.S. Exclusive Economic Zone (EEZ) (3-200 nautical miles (nmi)) (5.6-370.4 kilometers (km)) off Washington, Oregon, and California. The management measures are intended to prevent overfishing and to apportion the ocean harvest equitably among treaty Indian, non-Indian commercial, and recreational fisheries. The measures are also intended to allow a portion of the salmon runs to escape the ocean fisheries in order to provide for spawning escapement, comply with applicable law, and to provide fishing opportunity for inside fisheries (fisheries occurring in state waters).

DATES: This final rule is effective from 0001 hours Pacific Daylight Time, May 16, 2021, until the effective date of the 2022 management measures, as published in the Federal Register.

ADDRESSES: The documents cited in this document are available on the Pacific Fishery Management Council's (Council's) website (www.pcouncil.org).

FOR FURTHER INFORMATION CONTACT: Peggy Mundy at 206-526-4323.

SUPPLEMENTARY INFORMATION:

Background

The ocean salmon fisheries in the EEZ off the coasts of Washington, Oregon, and California are managed under a “framework” Fishery Management Plan (FMP). Regulations at 50 CFR part 660, subpart H, provide the mechanism for making preseason and inseason adjustments to the management measures, within limits set by the FMP, by notification in the Federal Register. Regulations at 50 CFR 660.408 govern the establishment of annual management measures.

The management measures for the 2021 and early 2022 ocean salmon fisheries that are implemented in this final rule were recommended by the Council at its April 6 to 15, 2021, meeting.

Process Used To Establish 2021 Management Measures

The Council announced its annual preseason management process for the 2021 ocean salmon fisheries in the Federal Register on December 23, 2020 (85 FR 83896), and on the Council's website at www.pcouncil.org. NMFS published an additional notice of opportunity to submit public comments on the 2021 ocean salmon fisheries in the Federal Register on January 18, 2021 (86 FR 5143). These notices announced the availability of Council documents, the dates and locations of Council meetings and public hearings comprising the Council's complete schedule of events for determining the annual proposed and final modifications to ocean salmon fishery management measures, and instructions on how to comment on the development of the 2021 ocean salmon fisheries. The agendas for the March and April Council meetings were published in the Federal Register (86 FR 2641, January 13, 2021, and 86 FR 14878, March 19, 2021, respectively), and posted on the Council's website prior to the actual meetings.

In accordance with the FMP, the Council's Salmon Technical Team (STT) and economist prepared four reports for the Council, its advisors, and the public. All four reports were made available on the Council's website upon their completion. The first of the reports, “Review of 2020 Ocean Salmon Fisheries,” was prepared in February when the first increment of scientific information necessary for crafting management measures for the 2021 and early 2022 ocean salmon fisheries became available. The first report summarizes biological and socio-economic data from the 2020 ocean salmon fisheries and assesses the performance of the fisheries with respect to the Council's 2020 management objectives as well as providing historical information for comparison. The second report, “Preseason Report I Stock Abundance Analysis and Environmental Assessment Part 1 for 2021 Ocean Salmon Fishery Regulations” (PRE I), provides the 2021 salmon stock abundance projections and analyzes the impacts on the stocks and Council management goals if the 2020 regulations and regulatory procedures were applied to the projected 2021 stock abundances. The completion of PRE I is the initial step in developing and evaluating the full suite of preseason alternatives.

Following completion of the first two reports, the Council met via webinar from March 2 to 11, 2021, to develop 2021 management alternatives for proposal to the public. The Council proposed three alternatives for commercial and recreational fisheries management, and six alternatives for treaty Indian fisheries management for analysis and public comment. These alternatives consisted of various combinations of management measures designed to ensure that stocks of coho and Chinook salmon meet conservation goals, and to provide for ocean harvests of more abundant stocks. After the March Council meeting, the Council's STT and economist prepared a third report, “Preseason Report II Proposed Alternatives and Environmental Assessment Part 2 for 2021 Ocean Salmon Fishery Regulations” (PRE II), which analyzes the effects of the proposed 2021 management alternatives.

The Council sponsored public hearings via webinar to receive testimony on the proposed alternatives on March 23, 2021, for Washington and California, and on March 24, 2021, for Oregon. The States of Washington, Oregon, and California sponsored meetings in various forums that also collected public testimony, which was then presented to the Council by each state's Council representative. The Council also received public testimony at both the March and April meetings and received written comments at the Council office and electronic submissions via the Council's electronic portal.

The Council met from April 6 to 15, 2021, via webinar, to adopt its final 2021 ocean salmon management recommendations. Following the April Council meeting, the Council's STT and economist prepared a fourth report, “Preseason Report III Analysis of Council-Adopted Management Measures for 2021 Ocean Salmon Fisheries” (PRE III), which analyzes the environmental and socio-economic effects of the Council's final recommendations. After the Council took final action on the annual ocean salmon specifications in April, it transmitted the recommended management measures to NMFS, published them in its newsletter, and posted them on the Council website (www.pcouncil.org).

Historically, the annual salmon management cycle began May 1 and continued through April 30 of the following year. The Council adopted Amendment 20 to the FMP in September 2020 (86 FR 8750, February 9, 2021). This amendment, in part, changed the preseason schedule. NMFS approved Amendment 20 to the FMP on April 22, 2021 (86 FR 22622, April 22, 2012). Under the newly amended FMP, the management cycle now begins May 16 and continues through May 15 of the following year. This final rule is effective on May 16, 2021, consistent with the FMP as amended under Amendment 20. Fisheries that begin prior to May 16, 2021 are governed by the rule implementing the salmon fishery management measures for the 2020 ocean salmon season (85 FR 27317, May 8, 2020). The majority of fisheries recommended by the Council for 2021 begin May 16, 2021 and are authorized under this rule. Fisheries scheduled to begin before May 16, 2021, which were authorized under the 2020 rule, are the commercial fisheries from the U.S./Mexico border to Humboldt South Jetty, CA, and from Horse Mountain, CA, to the U.S./Mexico border, recreational fisheries from Cape Falcon, OR, to Humbug Mountain, OR, and from Horse Mountain, CA, to the U.S./Mexico border, and treaty Indian troll fisheries north of Cape Falcon. For purposes of analyzing the impacts of these fisheries on individual stocks relative to the applicable objectives in the FMP, Council analysts assumed fisheries prior to May 16, 2021, would be conducted under the 2020 management measures for the March 15 to May 15 time period, consistent with the effective date of the 2020 salmon management measures rule and subsequent inseason actions under 50 CFR 660.409. Several fisheries scheduled to open between March 15, 2021 and May 15, 2021, were modified through inseason action to shorten or delay the fisheries in response to updated salmon stock forecast information for 2021.

National Environmental Policy Act (NEPA)

The environmental assessment (EA) for this action comprises the Council's documents described above (PRE I, PRE II, and PRE III), providing analysis of environmental and socioeconomic effects under NEPA. The EA and its related Finding of No Significant Impact are posted on the NMFS West Coast Region website (www.fisheries.noaa.gov/region/west-coast).

Resource Status

Stocks of Concern

The FMP requires that the fisheries be shaped to meet escapement-based Annual Catch Limits (ACLs), Endangered Species Act (ESA) consultation requirements, obligations of the Pacific Salmon Treaty (PST) between the United States and Canada, and other conservation objectives detailed in the FMP. In addition, under the MSA, all regulations must be consistent with other applicable law. Because the ocean salmon fisheries are mixed-stock fisheries, this requires “weak stock” management to avoid exceeding limits for the stocks with the most constraining limits. Abundance forecasts for individual salmon stocks can vary significantly from one year to the next; therefore, the stocks that constrain the fishery in one year may differ from those that constrain the fishery in the next. For 2021, several stocks will constrain fisheries; these are described below.

Fisheries south of Cape Falcon are limited in 2021 primarily by conservation concerns for Klamath River fall-run Chinook salmon (KRFC). NMFS determined in 2018 that the KRFC stock was overfished, as defined under the MSA and the FMP. The Council developed a rebuilding plan for KRFC which NMFS has approved (85 FR 75920, November 27, 2020). Fisheries north of Cape Falcon are limited by conservation concerns for Washington coastal coho salmon stocks—primarily Queets River natural (Queets) and ESA conservation requirements for the Lower Columbia River natural (LCR) Chinook salmon evolutionarily significant unit (ESU)—primarily the tule component of the LCR Chinook salmon ESU. Queets coho salmon was determined in 2018 to be overfished; the Council has developed a rebuilding plan which NMFS has approved (86 FR 9301, February 12, 2021). The limitations imposed in order to protect these stocks are described below. The alternatives and the Council's recommended management measures for 2021 were designed to avoid exceeding these limitations. In addition to KRFC and Queets coho salmon, three other salmon stocks (Sacramento River fall-run Chinook salmon (SRFC), Strait of Juan de Fuca natural coho salmon, and Snohomish River natural coho salmon) were also determined in 2018 to be overfished, and the Council has recommended rebuilding plans for these stocks. NMFS has approved the rebuilding plan for SRFC (85 FR 75920, November 27, 2020) and the rebuilding plans for the Strait of Juan de Fuca and Snohomish River natural coho salmon stocks (86 FR 9301, February 12, 2021). Meeting conservation objectives for these three stocks being managed under rebuilding plans (SRFC, Strait of Juan de Fuca, and Snohomish River natural coho salmon) will not constrain fisheries in 2021.

KRFC (not ESA-listed): Abundance for this non-ESA-listed stock in recent years has been historically low, and the stock is currently overfished based on spawning escapement in 2015, 2016, and 2017. The FMP defines “overfished” status in terms of a three-year geometric mean escapement level and whether it is below the minimum stock size threshold (MSST). Forecast abundance for KRFC in 2021 is 181,508. This KRFC forecast is the seventh lowest on record and three percent lower than in 2020; the record low abundance forecast, 54,246, was in 2017. Fisheries in 2021 will be constrained in Oregon and California to meet the requirements of the KRFC harvest control rule in the FMP and the rebuilding plan, to meet a 25.0 percent de minimis exploitation rate, which results in a natural-area spawning escapement projection of 31,574, which is greater than the MSST (30,525 spawners), but below the maximum sustainable yield spawner escapement (SMSY) (40,700 spawners). Fisheries south of Cape Falcon, particularly in the Klamath Management Zone (KMZ) from Humbug Mountain, OR, to Horse Mountain, CA, will be constrained to meet this goal.

Queets natural coho (not ESA-listed): The Queets coho salmon stock is managed in Council-area and in northern fisheries, subject to the provisions of the PST. In 2018, NMFS determined that Queets coho salmon was overfished, based on escapements in 2014, 2015, and 2016. Under the FMP and the Council's rebuilding plan, Queets coho salmon is managed for an escapement of 5,800 (SMSY) natural adult spawners. However, the FMP provides that annual natural spawning escapement targets may vary from FMP conservation objectives if agreed to by WDFW and treaty tribes under the provisions of Hoh Indian Tribe v. Baldrige and United States v. Washington. The forecast abundance of Queets natural coho salmon in 2021, prior to any fishing impacts, is 3,919 adult coho, 50 percent of the 2020 forecast of 7,834 thousand adult coho salmon. The average preseason abundance forecast for Queets coho salmon over the past decade (2011-2020) was 12,873 adult coho salmon. The 2021 Queets coho salmon forecast is, therefore, well below the SMSY goal of 5,800 spawners. Under the criteria of the PST's Southern Coho Management Plan, Queets coho salmon abundance is in the “low” category in 2021 and subject to a total exploitation rate limit of 20 percent. The WDFW and treaty tribe co-managers have agreed to a spawning escapement goal of 3,150 spawners for Queets coho salmon in 2021. Both the exploitation rate limit and the derivation of the escapement goal account for salmon fishery impacts outside of Council-area salmon fisheries. Meeting the escapement goal of 3,150 spawners is expected to achieve salmon fishery impacts on Queets coho salmon that are consistent with limits required by the PST.

LCR Chinook salmon (ESA-listed threatened): The LCR Chinook salmon ESU comprises a spring component, a “far-north” migrating bright component, and a component of north migrating tules. The bright and tule components both have fall run timing. There are twenty-one separate populations within the tule component of this ESU. Unlike the spring or bright populations of the ESU, LCR tule populations are caught in large numbers in Council fisheries, as well as fisheries to the north and in the Columbia River. Therefore, this component of the ESU is the one most likely to constrain Council fisheries in the area north of Cape Falcon. Under the provisions of NMFS' 2012 biological opinion on the impact of Council-area salmon fisheries on LCR Chinook salmon, Council fisheries must be managed subject to an abundance-based management (ABM) framework, after accounting for anticipated impacts in northern fisheries and freshwater fisheries that are outside the action area. Applying the ABM framework to the 2021 preseason abundance forecast, the total LCR tule exploitation rate for all salmon fisheries is limited to a maximum of 38 percent. Fisheries will be constrained north of Cape Falcon in 2021 such that, when combined with all other salmon fisheries in the ocean and in the Columbia River below Bonneville Dam, the ESA requirement is met.

Other Resource Issues

Southern Resident Killer Whale (SRKW) (ESA-listed endangered): The SRKW distinct population segment (DPS) was listed under the ESA as endangered in 2005 (70 FR 69903, November 18, 2005). NMFS issued a biological opinion analyzing the effects of the ocean salmon fisheries on SRKW in 2009 which concluded that these fisheries are not likely to jeopardize SRKW. NMFS reinitiated consultation on the effects of the ocean salmon fisheries on SRKW on April 12, 2019. To inform the new consultation, the Council formed an ad hoc workgroup (SRKW Workgroup), including salmon and SRKW experts, at its April 2019 meeting. The SRKW Workgroup was tasked to develop a long-term approach that included proposed conservation measures and management tools that would limit PFMC fishery impacts to prey availability for SRKW relative to implementing the FMP.

The SRKW workgroup developed a risk assessment report which suggests that Chinook salmon abundance north of Cape Falcon is consistently more important to SRKW than abundance in areas south of Cape Falcon. The report noted that the SRKW DPS is observed north of Cape Falcon in all seasons and likely has some direct overlap with the salmon fisheries every year, whereas there is likely limited overlap with the salmon fisheries in some years south of Cape Falcon. Furthermore, the contribution of Chinook salmon south of Cape Falcon to SRKW diet may also be largely confined to the winter/spring season, after maturing fall-run Chinook salmon adults that escaped the current year's fishery leave the ocean. The report also provided evidence that, after executing Council-area salmon fisheries, the percent of prey remaining and available to SRKW has increased coastwide over the last several decades. The SRKW Workgroup's risk assessment report provides the most current information on SRKW and their predator-prey interaction with Pacific salmon.

Based largely on the SRKW Workgroup's risk assessment report, the Council developed an approach to set a Chinook salmon annual abundance management threshold below which the Council and NMFS would implement specific measures to limit ocean salmon fishery impacts on Chinook salmon in order to increase salmon prey availability for SRKW. These measures include time and area closures, a quota limitation for the North of Falcon area, and temporal shifts in fishing. At its November 2020 meeting, the Council adopted this approach as an amendment to the FMP for recommendation to NMFS (if approved, this will be Amendment 21 to the FMP). NMFS has completed an ESA consultation on authorization of the ocean salmon fishery in the west coast EEZ through approval of the FMP and promulgation of regulations implementing the plan, including approval and implementation of Amendment 21. NMFS' biological opinion (WCRO-2019-04072, April 21, 2021) concluded that authorization of the ocean salmon fishery in the west coast EEZ through approval of the FMP and promulgation of regulations implementing the plan, including approval and implementation of Amendment 21, is not likely to jeopardize the continued existence of the SRKW DPS or destroy or adversely modify its designated or proposed critical habitat. The Council and NMFS considered the Chinook salmon abundance threshold approach in proposed Amendment 21, as analyzed in the 2021 biological opinion, when developing 2021 annual management measures. Because the pre-season estimate of the abundance of Chinook salmon in 2021 exceeds the threshold in the proposed amendment, the Council did not recommend implementation of the additional management measures included in Amendment 21. The 2021 management measures are consistent with the proposed action analyzed in the 2021 biological opinion.

Oregon Production Index area (OPI) coho salmon: The abundance forecast for OPI coho salmon in 2021, 1.73 million adult salmon, is the second largest on record (the 2001 abundance forecast for OPI coho was 1.76 million). The large forecast for OPI coho salmon, dominated by hatchery coho from the Columbia River Basin, will provide additional salmon fishery opportunities in the Columbia River management area, while salmon fisheries along the remainder of the coast are significantly constrained to protect KRFC and Washington coastal coho salmon stocks.

Annual Catch Limits and Status Determination Criteria

Annual Catch Limits (ACLs) are set for two Chinook salmon stocks, SRFC and KRFC, and one coho salmon stock, Willapa Bay natural coho salmon. The Chinook salmon stocks are indicator stocks for the Central Valley Fall Chinook salmon complex, and the Southern Oregon/Northern California Chinook salmon complex, respectively. The Far North Migrating Coastal Chinook salmon complex (FNMC) includes a group of Chinook salmon stocks that are caught primarily in fisheries north of Cape Falcon and other fisheries that occur north of the U.S./Canada border. No ACL is set for FNMC stocks because they are managed subject to provisions of the PST between the U.S. and Canada (the MSA provides an international exception from ACL requirements that applies to stocks or stock complexes subject to management under an international agreement, which is defined as “any bilateral or multilateral treaty, convention, or agreement which relates to fishing and to which the United States is a party” (50 CFR 600.310(h)(1)(ii)). Other Chinook salmon stocks caught in fisheries north of Cape Falcon are ESA-listed or hatchery produced, and are managed consistent with ESA consultations or hatchery goals. Willapa Bay natural coho salmon is the only coho salmon stock for which an ACL is set, as the other coho salmon stocks in the FMP are either ESA-listed, hatchery produced, or managed under the PST.

ACLs for salmon stocks are escapement-based, which means they establish a number of adults that must escape the fisheries to return to the spawning grounds. ACLs are set based on the annual potential spawner abundance forecast and a fishing rate reduced to account for scientific uncertainty. For SRFC in 2021, the overfishing limit (OFL) is SOFL = 270,958 (potential spawner abundance forecast) multiplied by 1−FMSY (1−0.78) or 59,611 returning spawners (FMSY is the fishing mortality rate that would result in maximum sustainable yield—MSY). SABC (the spawner escapement that is associated with the acceptable biological catch) is 270,958 multiplied by 1−FABC (1−0.70) (FMSY reduced for scientific uncertainty = 0.70) or 81,287. The SACL is set equal to SABC, i.e., 81,287 spawners. The adopted management measures provide for a projected SRFC spawning escapement of 133,913. For KRFC in 2021, SOFL is 42,098 (potential spawner abundance forecast) multiplied by 1−FMSY (1−0.71), or 12,208 returning spawners. SABC is 42,098 multiplied by 1−FABC (1−0.68) (FMSY reduced for scientific uncertainty = 0.68) or 13,471 returning spawners. SACL is set equal to SABC, i.e., 13,471 spawners. When KRFC potential spawner abundance is projected to be less than 54,267 natural-area adults, fisheries are managed under the de minimis portion of the control rule, which allows for some fishing opportunity but results in the expected escapement falling below 40,700 natural-area adult spawners (SMSY). The adopted management measures provide for a projected KRFC spawning escapement of 31,574. For Willapa Bay natural coho in 2021, SOFL = 36,908 (potential spawner abundance forecast) multiplied by 1−FMSY (1−0.74) or 9,596 returning spawners. SABC is 36,908 multiplied by 1−FABC (1−0.70) (FMSY reduced for scientific uncertainty = 0.70) or 11,072. SACL is set equal to SABC, i.e., 11,072 spawners. The adopted management measures provide for a projected Willapa Bay natural coho ocean escapement of 23,452. In summary, for 2021, projected abundance of the three stocks with ACLs (SRFC, KRFC, and Willapa Bay natural coho salmon), in combination with the constraints for ESA-listed and non-ESA-listed stocks, are expected to result in escapements greater than required to meet the ACLs for all three stocks with defined ACLs.

As explained in more detail above under “Stocks of Concern,” fisheries north and south of Cape Falcon are constrained by impact limits necessary to protect ESA-listed LCR Chinook salmon, and to meet the management targets for non-ESA listed Queets natural coho salmon and KRFC. The management measures recommended by the Council are anticipated to result in spawning escapements for KRFC, SRFC, and Willapa Bay natural coho that are higher than the respective 2021 ACLs for these stocks.

Public Comments

The Council invited written comments on developing 2021 salmon management measures in their notice announcing public meetings and hearings (85 FR 83896, December 23, 2020). At its March meeting, the Council developed three alternatives for 2021 commercial and recreational salmon management measures having a range of quotas, season structure, and impacts, from the least restrictive in Alternative I to the most restrictive in Alternative III, as well as six alternatives for 2021 North of Cape Falcon treaty Indian troll salmon management measures. These alternatives are described in detail in PRE II. Subsequently, comments were taken at three public hearings held in March, staffed by representatives of the Council and NMFS. The Council received 253 written comments on 2021 ocean salmon fisheries via their electronic portal. The three public hearings were attended by a total of 158 people; 30 people provided oral comments. Comments came from individual fishers, fishing associations, fish buyers, processors, the general public, and conservation organizations. Written and oral comments addressed the 2021 management alternatives described in PRE II, and generally expressed preferences for a specific alternative or for particular season structures. Approximately half of the written comments that were submitted focused on fishery effects on ESA-listed SRKW. All comments were made available via the Council's online briefing book for the April 2021 Council meeting and were considered by the Council, which includes a representative from NMFS, in developing the recommended management measures transmitted to NMFS on April 22, 2021. In addition to comments collected at the public hearings and those submitted directly to the Council, several people provided oral comments at the April 2021 Council meeting. NMFS also invited comments to be submitted directly to the Council or to NMFS, via the Federal Rulemaking Portal (www.regulations.gov) in a notice (86 FR 5143, January 18, 2021); NMFS received no comments via the Federal Rulemaking Portal.

Comments on alternatives for commercial salmon fisheries. Many written comments did not identify the fishery being commented on, either by geography or sector. Relatively few written comments specifically addressed commercial salmon fisheries. Of those that did submit written comments specifically on commercial fisheries, eight supported Alternative III. Alternatives I and II each received one written comment of support. Those testifying on north of Cape Falcon commercial salmon fisheries at the Washington hearing supported the total allowable catch for Chinook salmon in Alternative I and the total allowable catch for coho salmon in Alternative II. Those testifying on south of Cape Falcon commercial salmon fisheries at the Oregon hearing divided their support among the three alternatives. Those testifying on south of Cape Falcon commercial salmon fisheries at the California hearing largely supported Alternative I. The Council adopted commercial fishing alternatives north and south of Cape Falcon that are within the range of the alternatives considered.

Comments on alternatives for recreational fisheries. As mentioned above, many written comments did not identify the fishery being commented on, either by geography or sector. Those that did submit written comments specifically on recreational fisheries supported Alternative I almost unanimously. Most spoke to maximizing fishing opportunity, which would be consistent with Alternative I. Many spoke to the economic benefit to businesses and communities from recreational fisheries. A few comments addressed water management as a key concern. Several written comments on the recreational salmon fishery in the Klamath Management Zone objected to what appeared to be a loss of recreational fishing days to the benefit of the commercial sector. In-person testimony on recreational fisheries at the three public hearings was similar to the written comments—support for maximizing fishing opportunity. The Council adopted recreational fishing alternatives north and south of Cape Falcon that are within the range of alternatives considered.

Comments from federally recognized tribes, including treaty tribe representatives. At its March and April meetings, the Council heard testimony from members of several federally recognized tribes including tribes with treaty rights for salmon harvest; additional comments were submitted in writing. Tribes expressed concern over the low forecasts for some stocks in 2021 and the ramifications for tribal fisheries. Tribes also expressed concern over a pattern of overforecasting abundance of OPI coho in recent years and the impact such forecasts have on ocean fishing opportunity, stocks of concern, and the preseason modeling process.

Comments on SRKW. The Council received 128 written comments for the April Council meeting on potential fishery effects on SRKW. Many comments were identical. Specific comments were made regarding reducing or closing ocean salmon fisheries, moving ocean salmon fisheries closer to terminal areas, and dam impacts on salmon abundance.

The Council, including the NMFS representative, took all of these comments into consideration. The Council's final recommendation generally includes aspects of all three alternatives, while taking into account the best available scientific information and ensuring that fisheries are consistent with impact limits for ESA-listed stocks, ACLs, PST obligations, other ESA requirements, MSA requirements, and tribal fishing rights. The Council and NMFS also considered comments on the NEPA analysis in preparing the final EA.

Management Measures

The Council's recommended ocean harvest levels and management measures for the 2021 fisheries are designed to apportion the burden of protecting the weak stocks identified and discussed in PRE I equitably among ocean fisheries and to allow maximum harvest of natural and hatchery runs surplus to inside fishery and spawning needs. NMFS finds the Council's recommendations to be responsive to the goals of the FMP, the requirements of the resource, and the socioeconomic factors affecting resource users. The recommendations are consistent with the requirements of the MSA, U.S. obligations to Indian tribes with federally recognized fishing rights, and U.S. international obligations regarding Pacific salmon. The Council's recommended management measures are consistent with the proposed actions analyzed in NMFS' ESA consultations for those ESA-listed species that may be affected by Council fisheries, and are otherwise consistent with ESA obligations. Accordingly, NMFS, through this final rule, approves and implements the Council's recommendations.

North of Cape Falcon, 2021 management measures for non-Indian commercial troll and recreational fisheries have somewhat increased quotas for Chinook salmon compared to 2020; coho salmon quotas are substantially higher than in 2020, with most of the coho salmon quota dedicated to the Columbia River management area to access the abundant OPI coho salmon forecast. Overall north of Cape Falcon non-Indian commercial and recreational total allowable catch in 2021 is 58,000 Chinook salmon and 75,000 coho salmon marked with a healed adipose fin clip. The commercial troll fishery, north of Cape Falcon, will have a May-June Chinook salmon only fishery with a quota of 15,375 Chinook salmon, and a July-September fishery with a quota of 15,375 Chinook salmon or 5,000 marked coho salmon. The recreational fishery, north of Cape Falcon, will have a July-September fishery with a total allowable catch of 27,250 Chinook salmon and 70,000 marked coho salmon, with subarea quotas.

Quotas for the 2021 treaty-Indian commercial troll fishery North of Cape Falcon are 40,000 Chinook salmon and 26,500 coho in ocean management areas and Washington State Statistical Area 4B combined. These quotas provide more Chinook salmon and substantially more coho than in 2020. The treaty-Indian commercial fisheries include a May-June fishery with a quota of 20,000 Chinook salmon, and a July-September fishery, with quotas of 20,000 Chinook salmon and 26,500 coho salmon.

South of Cape Falcon, commercial troll and recreational fishery management measures are shaped to meet conservation and management goals for KRFC spawning escapement.

The timing of the March and April Council meetings makes it impracticable for the Council to recommend fishing seasons that begin before May of the same year. Therefore, this action also establishes the 2022 fishing seasons that open earlier than May 16. The Council recommended, and NMFS concurs, that the commercial and recreational seasons will open in 2022 as indicated in the “Season Description” section of this document. At the March and/or April 2022 meeting, NMFS may take inseason action, if recommended by the Council, to adjust the commercial and recreational seasons prior to the effective date of the 2022 management measures which are expected to be effective in mid-May 2022.

The following sections set out the management regime for the ocean salmon fishery. Open seasons and days are described in Sections 1, 2, and 3 of the 2020 management measures. Inseason closures in the commercial and recreational fisheries are announced on the NMFS hotline and through the U.S. Coast Guard (USCG) Notice to Mariners as described in Section 6. Other inseason adjustments to management measures are also announced on the hotline and through the Notice to Mariners. Inseason actions will also be published in the Federal Register as soon as practicable.

The following are the management measures recommended by the Council, approved, and implemented here for 2021 and, as specified, for 2022. Dates in the management measures that precede May 16, 2021, were promulgated in our 2020 rule (85 FR 27317, May 8, 2020) and modified by inseason action at the March and April 2021 Council meetings (86 FR 16540, March 30, 2021, and 86 FR 23872, May 5, 2021). These dates are included for information only and to provide continuity for the public and for states adopting conforming regulations each May that refer to the Federal rule for the same year.

Section 1. Commercial Management Measures for 2021 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions, and exceptions.

A. Season Description

North of Cape Falcon, OR

—U.S./Canada border to Cape Falcon

May 1-15;

May 16 through the earlier of June 29, or 15,375 Chinook salmon quota.

May-June quota of 15,375 Chinook salmon, no more than 5,680 of which may be caught in the area between the U.S./Canada border and the Queets River, and no more than 4,195 of which may be caught in the area between Leadbetter Point and Cape Falcon (C.8). In the area between the U.S./Canada border and the Queets River, the landing and possession limit is 75 Chinook salmon per vessel per landing week (Thursday-Wednesday) (C.1, C.6). In the area between Leadbetter Point and Cape Falcon, the landing and possession limit is 75 Chinook salmon per vessel per landing week (Thursday-Wednesday) (C.1, C.6). Open seven days per week (C.1). All salmon, except coho salmon (C.4, C.7). Chinook salmon minimum size limit of 27 inches total length (B). See compliance requirements (C.1) and gear restrictions and definitions (C.2, C.3). When it is projected that approximately 75 percent of the overall Chinook salmon guideline has been landed, or approximately 75 percent of any of the individual Chinook salmon subarea guidelines have been landed, inseason action will be considered to ensure the guideline is not exceeded. In 2022, the season will open May 1 consistent with all preseason regulations in place in this area and subareas during May 16-June 30, 2021, including subarea salmon guidelines and quotas, and weekly vessel limits, except as described below for vessels fishing or in possession of salmon north of Leadbetter Point. This opening could be modified following Council review at its March and/or April 2022 meetings.

July 1 through the earlier of September 30, or 15,375 Chinook salmon or 5,000 coho salmon (C.8).

Landing and possession limit of 20 marked coho salmon per vessel per landing week (Thursday-Wednesday) (C.1). Open seven days per week. All salmon, except no chum salmon retention north of Cape Alava, Washington in August and September (C.4, C.7). Chinook salmon minimum size limit 27 inches total length and coho salmon minimum size limit 16 inches total length (B, C.1). All coho salmon must be marked with a healed adipose fin clip (C.8.d). See compliance requirements (C.1) and gear restrictions and definitions (C.2, C.3).

For all commercial troll fisheries north of Cape Falcon: Mandatory closed areas include: Salmon troll Yelloweye Rockfish Conservation (YRCA) Area, Cape Flattery, and Columbia Control Zones, and beginning August 9, Grays Harbor Control Zone (C.5). Vessels must land and deliver their salmon within 24 hours of any closure of this fishery. Vessels fishing or in possession of salmon north of the Queet River may not cross the Queets River line without first notifying WDFW at 360-249-1215 with area fished, total Chinook salmon, coho salmon, and halibut catch aboard, and destination. Vessels in possession of salmon south of the Queets River may not cross the Queets River line without first notifying WDFW at 360-249-1215 with area fished, total Chinook salmon, coho salmon, and halibut catch aboard, and destination (C.11). In 2021, vessels may not land any species of fish east of Port Angeles or east of the Megler-Astoria Bridge. For delivery to Washington ports east of the Sekiu River, vessels must notify WDFW at 360-249-1215 prior to crossing the Bonilla-Tatoosh line with the area fished, total Chinook salmon, coho salmon, and halibut catch aboard, and destination with approximate time of delivery. In 2022, vessels may not land any species of fish east of the Sekiu River or east of the Megler-Astoria Bridge. Vessels fishing or in possession of salmon north of Leadbetter Point must land and deliver all species of fish in a Washington port and must possess a Washington troll and/or salmon delivery license. For delivery to Washington ports south of Leadbetter Point, vessels must notify the WDFW at 360-249-1215 prior to crossing the Leadbetter Point line with area fished, total Chinook salmon, coho salmon, and halibut catch aboard, and destination with approximate time of delivery. During any single trip, only one side of the Leadbetter Point line may be fished (C.11). Vessels fishing or in possession of salmon while fishing south of Leadbetter Point must land and deliver all species of fish within the area and south of Leadbetter Point, except that Oregon permitted vessels may also land all species of fish in Garibaldi, Oregon. Under state law, vessels must report their catch on a state fish receiving ticket. Oregon State regulations require all fishers landing salmon into Oregon from any fishery between Leadbetter Point, Washington and Cape Falcon, Oregon to notify ODFW within one hour of delivery or prior to transport away from the port of landing by either calling 541-857-2546 or sending notification via email to nfalcon.trollreport@state.or.us. Notification shall include vessel name and number, number of salmon by species, port of landing and location of delivery, and estimated time of delivery. Inseason actions may modify harvest guidelines in later fisheries to achieve or prevent exceeding the overall allowable troll harvest impacts (C.8).

South of Cape Falcon, OR

—Cape Falcon to Heceta Bank Line

March 20-April 30 (C.9.a).

All salmon except coho salmon, except as described below (C.4, C.7). Chinook salmon minimum size limit of 28 inches total length (B, C.1). All vessels fishing in the area must land their salmon in the state of Oregon. See gear restrictions and definitions (C.2, C.3). In 2022, the season will open March 15 for all salmon except coho salmon. Chinook salmon minimum size limit of 28 inches total length. Gear restrictions same as in 2021. This opening could be modified following Council review at its March 2022 meeting.

—Cape Falcon to Humbug Mountain

May 1-5, 10-15;

May 16-21, 26-31;

June 5-7, 12-14, 19-21, 26-28;

September 1-October 31 (C.9.a).

All salmon except coho salmon, except as described below (C.4, C.7). Beginning September 1, no more than 75 Chinook salmon allowed per vessel per landing week (Thursday-Wednesday). Chinook salmon minimum size limit of 28 inches total length (B, C.1). All vessels fishing in the area must land their salmon in the state of Oregon. See gear restrictions and definitions (C.2, C.3).

July 5-7, 12-14, 19-21, 26-28;

August 1-4, 8-10, 15-17 (C.9.a).

All salmon. All retained coho salmon must be marked with a healed adipose fin clip (C.4, C.7). If the coho quota for the combined area from Cape Falcon to Humbug Mountain of 10,000 marked coho is met, then the season continues for all salmon except coho on the remaining open days. Salmon trollers may take and retain or possess on board a fishing vessel no more than 20 coho per vessel per week (Thursday-Wednesday). All coho salmon retained, possessed on a vessel, and landed must not exceed a 1:1 ratio with Chinook salmon that are retained and landed at the same time. Coho salmon minimum size limit of 16 inches total length, and Chinook salmon minimum size limit of 28 inches total length (B, C.1). All vessels fishing in the area must land their salmon in the state of Oregon. See gear restrictions and definitions (C.2, C.3). In 2022, the season will open March 15 for all salmon except coho. Chinook salmon minimum size limit of 28 inches total length. Gear restrictions same as in 2021. This opening could be modified following Council review at its March 2022 meeting.

—Humbug Mountain to OR/CA Border (Oregon KMZ)

March 20-May 5, May 10-15;

May 16-21, 26-31;

June 1 through the earlier of June 30, or a 300 Chinook salmon quota;

July 1 through the earlier of July 31, or a 200 Chinook salmon quota (C.9.a).

June 1-July 31 weekly landing and possession limit of 20 Chinook salmon per vessel per week (Thursday-Wednesday). All salmon except coho salmon (C.4, C.7). Chinook salmon minimum size limit of 28 inches total length (B, C.1). See compliance requirements (C.1) and gear restrictions and definitions (C.2, C.3). Prior to June 1, all salmon caught in this area must be landed and delivered in the state of Oregon. Any remaining portion of Chinook salmon quotas may be transferred inseason on an impact neutral basis to the next open quota period (C.8.b). All vessels fishing in this area during June and July must land and deliver all salmon within this area or into Port Orford within 24 hours of any closure of this fishery and prior to fishing outside of this area. For all quota managed seasons (June and July), Oregon state regulations require fishers to notify ODFW within one hour of landing and prior to transport away from the port of landing by calling 541-857-2538 or sending notification via email to kmzor.trollreport@state.or.us, with vessel name and number, number of salmon by species, location of delivery, and estimated time of delivery.

In 2022, the season will open March 15 for all salmon except coho salmon. Chinook salmon minimum size limit of 28 inches total length. Gear restrictions same as in 2021. This opening could be modified following Council review at its March 2022 meeting.

—Oregon/California Border to Humboldt South Jetty (California KMZ)

Closed in 2021 (C.9).

In 2022, the season will open May 1 through the earlier of May 31, or a 3,000 Chinook salmon quota. Chinook salmon minimum size limit of 27 inches total length (B, C.1). Landing and possession limit of 20 Chinook salmon per vessel per day (C.8.f). Open five days per week (Friday-Tuesday). All salmon except coho (C.4, C.7). Any remaining portion of Chinook salmon quotas may be transferred inseason on an impact neutral basis to the next open quota period (C.8.b). All fish caught in this area must be landed within the area, within 24 hours of any closure of the fishery (C.6), and prior to fishing outside the area (C.10). See compliance requirements (C.1) and gear restrictions and definitions (C.2, C.3). Klamath Control Zone closed (C.5.e). See California State regulations for an additional closure adjacent to the Smith River. This opening could be modified following Council review at its March or April 2022 meetings.

—Humboldt South Jetty to Latitude 40°10′0″ N

Closed.

For all commercial fisheries south of Cape Falcon: When the fishery is closed between the Oregon/California border and Humbug Mountain and open to the south, vessels with fish on board caught in the open area off California may seek temporary mooring in Brookings, Oregon prior to landing in California only if such vessels first notify the Chetco River Coast Guard Station via VHF channel 22A between the hours of 0500 and 2200 and provide the vessel name, number of fish on board, and estimated time of arrival (C.6).

—Latitude 40°10′0″ N to Point Arena (Fort Bragg)

August 1-17;

September 1-30 (C.9.b).

All salmon except coho (C.4, C.7). Chinook salmon minimum size limit of 27 inches total length (B, C.1). See compliance requirements (C.1) and gear restrictions and definitions (C.2, C.3). All salmon must be landed in California and north of Point Arena (C.6, C.11).

In 2022, the season will open April 16 for all salmon except coho salmon. Chinook salmon minimum size limit of 27 inches total length (B, C.1). Gear restrictions same as in 2021. This opening could be modified following Council review at its March 2022 meeting.

—Point Arena to Pigeon Point (San Francisco)

June 16-30;

July 17-22;

August 1-17;

September 1-30 (C.9.b).

All salmon except coho salmon (C.4, C.7). Chinook salmon minimum size limit of 27 inches total length through August, then 26 inches thereafter (B, C.1). See compliance requirements (C.1) and gear restrictions and definitions (C.2, C.3). All salmon must be landed in California. During September, all salmon must be landed south of Point Arena (C.6, C.11).

In 2022, the season will open May 1 for all salmon except coho (C.4, C.7). Chinook salmon minimum size limit of 27 inches total length (B, C.1). Gear restrictions same as in 2021 (C.2, C.3). This opening could be modified following Council review at its March or April 2022 meetings.

—Point Reyes to Point San Pedro (Fall Area Target Zone)

October 1, 4-8, 11-15.

Open five days per week (Monday-Friday). All salmon except coho salmon (C.4, C.7). Chinook salmon minimum size limit of 26 inches total length (B, C.1). All salmon caught in this area must be landed between Point Arena and Pigeon Point (C.6, C.11). See compliance requirements (C.1) and gear restrictions and definitions (C.2, C.3).

—Pigeon Point to U.S./Mexico border (Monterey)

May 1-12;

May 20-27;

June 16-30;

July 17-22;

August 1-17 (C.9.b).

All salmon except coho salmon (C.4, C.7). Chinook salmon minimum size limit of 27 inches total length (B, C.1). See compliance requirements (C.1) and gear restrictions and definitions (C.2, C.3). All salmon must be landed in California (C.6).

In 2022, the season will open May 1 for all salmon except coho (C.4, C.7). Chinook salmon minimum size limit of 27 inches total length (B, C.1). Gear restrictions same as in 2021 (C.2, C.3). This opening could be modified following Council review at its March or April 2022 meetings.

For all commercial troll fisheries in California: California State regulations require all salmon be made available to a California Department of Fish and Wildlife (CDFW) representative for sampling immediately at port of landing. Any person in possession of a salmon with a missing adipose fin, upon request by an authorized agent or employee of the CDFW, shall immediately relinquish the head of the salmon to the state (California Fish and Game Code § 8226).

B. Minimum Size (Inches) (See C.1)

Table 1—Minimum Size Limits for Salmon in the 2021 Commercial Ocean Salmon Fisheries
Area (when open) | Chinook: Total length | Chinook: Head-off | Coho: Total length | Coho: Head-off | Pink
North of Cape Falcon, OR | 27.0 | 20.5 | 16 | 12 | None.
Cape Falcon to Humbug Mountain | 28.0 | 21.5 | 16 | 12 | None.
Humbug Mountain to OR/CA border | 28.0 | 21.5 |  |  | None.
OR/CA border to Humboldt South Jetty | Closed |  |  |  |
Latitude 40°10′0″ N to Point Arena | 27.0 | 20.5 |  |  | 27.
Point Arena to Pigeon Point (through August) | 27.0 | 20.5 |  |  | 27.
Point Arena to Pigeon Point (September-October) | 26.0 | 19.5 |  |  | 26.
Pigeon Point to U.S./Mexico border | 27.0 | 20.5 |  |  | 27.
Metric equivalents: 28.0 in = 71.1 cm, 27.0 in = 68.5 cm, 26 in = 66 cm, 21.5 in = 54.6 cm, 20.5 in = 52.1 cm, 19.5 in = 49.5 cm, 16.0 in = 40.6 cm, and 12.0 in = 30.5 cm.

C. Requirements, Definitions, Restrictions, or Exceptions

C.1. Compliance With Minimum Size or Other Special Restrictions

All salmon on board a vessel must meet the minimum size, landing/possession limit, or other special requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable state law must include on the state landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon, OR, to the Oregon/California border: No more than 4 spreads are allowed per line.

c. Oregon/California border to U.S./Mexico border: No more than 6 lines are allowed per vessel, and barbless circle hooks are required when fishing with bait by any means other than trolling.

C.3. Gear Definitions

Trolling defined: Fishing from a boat or floating device that is making way by means of a source of power, other than drifting by means of the prevailing water current or weather conditions.

Troll fishing gear defined: One or more lines that drag hooks behind a moving fishing vessel engaged in trolling. In that portion of the fishery management area off Oregon and Washington, the line or lines must be affixed to the vessel and must not be intentionally disengaged from the vessel at any time during the fishing operation.

Spread defined: A single leader connected to an individual lure and/or bait.

Circle hook defined: A hook with a generally circular shape and a point which turns inward, pointing directly to the shank at a 90° angle.

C.4. Vessel Operation in Closed Areas With Salmon on Board

a. It is unlawful for a vessel to have troll or recreational gear in the water while in any area closed to fishing for a certain species of salmon, while possessing that species of salmon; however, fishing for species other than salmon is not prohibited if the area is open for such species, and no salmon are in possession.

C.5. Control Zone Definitions

a. Cape Flattery Control Zone—The area from Cape Flattery (48°23′00″ N lat.) to the northern boundary of the U.S. EEZ; and the area from Cape Flattery south to Cape Alava (48°10′00″ N lat.) and east of 125°05′00″ W long.

b. Salmon Troll YRCA (50 CFR 660.70(c))—The area in Washington Marine Catch Area 3 from 48°00.00′ N lat.; 125°14.00′ W long. to 48°02.00′ N lat.; 125°14.00′ W long. to 48°02.00′ N lat.; 125°16.50′ W long. to 48°00.00′ N lat.; 125°16.50′ W long. and connecting back to 48°00.00′ N lat.; 125°14.00′ W long.

c. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

d. Columbia Control Zone—An area at the Columbia River mouth, bounded on the west by a line running northeast/southwest between the red lighted Buoy #4 (46°13′35″ N lat., 124°06′50″ W long.) and the green lighted Buoy #7 (46°15′09′ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long.) and then along the north jetty to the point of intersection with the Buoy #10 line; and, on the south, by a line running northeast/southwest between the red lighted Buoy #4 and tip of the south jetty (46°14′03″ N lat., 124°04′05″ W long.), and then along the south jetty to the point of intersection with the Buoy #10 line.

e. Klamath Control Zone—The ocean area at the Klamath River mouth bounded on the north by 41°38′48″ N lat. (approximately 6 nautical miles north of the Klamath River mouth); on the west by 124°23′00″ W long. (approximately 12 nautical miles off shore); and on the south by 41°26′48″ N lat. (approximately 6 nautical miles south of the Klamath River mouth).

C.6. Notification When Unsafe Conditions Prevent Compliance With Regulations

If prevented by unsafe weather conditions or mechanical problems from meeting special management area landing restrictions, vessels must notify the USCG and receive acknowledgment of such notification prior to leaving the area. This notification shall include the name of the vessel, port where delivery will be made, approximate number of salmon (by species) on board, the estimated time of arrival, and the specific reason the vessel is not able to meet special management area landing restrictions.

In addition to contacting the USCG, vessels fishing south of the Oregon/California border must notify CDFW within one hour of leaving the management area by calling 800-889-8346 and providing the same information as reported to the USCG. All salmon must be offloaded within 24 hours of reaching port.

C.7. Incidental Halibut Harvest

License applications for incidental harvest for halibut during commercial salmon fishing must be obtained from the International Pacific Halibut Commission (IPHC).

During the 2021 salmon troll season, incidental harvest is authorized only during April, May, and June, and after June 30 if quota remains and if announced on the NMFS hotline (phone: 800-662-9825 or 206-526-6667). WDFW, Oregon Department of Fish and Wildlife (ODFW), and CDFW will monitor landings. If the landings are projected to exceed the IPHC's 45,198 pound preseason allocation or the total Area 2A non-Indian commercial halibut allocation, NMFS will take inseason action to prohibit retention of halibut in the non-Indian salmon troll fishery.

Prior to May 16, 2021, consistent with the 2020 annual management measures (85 FR 27317, May 8, 2020), IPHC license holders may land no more than one Pacific halibut per each two Chinook salmon, except one Pacific halibut may be landed without meeting the ratio requirement, and no more than 35 halibut may be landed per trip. Beginning May 16, 2021, through the end of the 2021 salmon troll fishery, and beginning April 1, 2021, until modified through inseason action or superseded by the 2022 management measures the following applies: License holders may land no more than one Pacific halibut per each two Chinook salmon, except one Pacific halibut may be landed without meeting the ratio requirement, and no more than 35 halibut may be landed per trip.

Incidental Pacific halibut catch regulations in the commercial salmon troll fishery adopted for 2021, prior to any 2021 inseason action, will be in effect when incidental Pacific halibut retention opens on April 1, 2022, unless otherwise modified by inseason action at the March 2022 Council meeting.

a. “C-shaped” YRCA is an area to be voluntarily avoided for salmon trolling. NMFS and the Council request salmon trollers voluntarily avoid this area in order to protect yelloweye rockfish. The area is defined in the Pacific Council Halibut Catch Sharing Plan in the North Coast subarea (Washington marine area 3), with the following coordinates in the order listed:

48°18′ N lat.; 125°18′ W long.;

48°18′ N lat.; 124°59′ W long.;

48°11′ N lat.; 124°59′ W long.;

48°11′ N lat.; 125°11′ W long.;

48°04′ N lat.; 125°11′ W long.;

48°04′ N lat.; 124°59′ W long.;

48°00′ N lat.; 124°59′ W long.;

48°00′ N lat.; 125°18′ W long.;

and connecting back to 48°18′ N lat.; 125°18′ W long.

C.8. Inseason Management

In addition to standard inseason actions or modifications already noted under the season description, the following inseason guidance applies:

a. Chinook salmon remaining from the May through June non-Indian commercial troll harvest guideline north of Cape Falcon may be transferred to the July through September harvest guideline if the transfer would not result in exceeding preseason impact expectations on any stocks.

b. Chinook salmon remaining from May, June, and/or July non-Indian commercial troll quotas in the Oregon or California KMZ may be transferred to the Chinook salmon quota for the next open period if the transfer would not result in exceeding preseason impact expectations on any stocks.

c. NMFS may transfer salmon between the recreational and commercial fisheries north of Cape Falcon if there is agreement among the areas' representatives on the Salmon Advisory Subpanel (SAS), and if the transfer would not result in exceeding preseason impact expectations on any stocks.

d. The Council will consider insesason recommendations for special regulations for any experimental fisheries annually in March; proposals must meet Council protocol and be received in November the year prior.

e. If retention of unmarked coho salmon (adipose fin intact) is permitted by inseason action, the allowable coho quota will be adjusted to ensure preseason projected impacts on all stocks is not exceeded.

f. Landing limits may be modified inseason to sustain season length and keep harvest within overall quotas.

g. Inseason modifications to salmon management areas (e.g., establishing a sub-area boundary) is allowed if the boundary is described as a landmark in Section C.11 of this document, and if the change would not result in exceeding preseason impact expectations on any stocks.

C.9. State Waters Fisheries

Consistent with Council management objectives:

a. The state of Oregon may establish additional late-season fisheries in state waters.

b. The state of California may establish limited fisheries in selected state waters.

Check state regulations for details.

C.10. For the Purposes of California Fish and Game Code, Section 8232.5, the Definition of the KMZ for the Ocean Salmon Season Shall Be That Area From Humbug Mountain, Oregon, to Latitude 40°10′0″ N

C.11. Latitudes for Geographical Reference of Major Landmarks Along the West Coast, Including Those Used for Inseason Modifications to Salmon Management Areas (C.8.g.), Are Listed in Section 5 of This Rule

Section 2. Recreational Management Measures for 2021 Ocean Salmon Fisheries

Parts A, B, and C of this section contain restrictions that must be followed for lawful participation in the fishery. Part A identifies each fishing area and provides the geographic boundaries from north to south, the open seasons for the area, the salmon species allowed to be caught during the seasons, and any other special restrictions effective in the area. Part B specifies minimum size limits. Part C specifies special requirements, definitions, restrictions and exceptions.

A. Season Description

North of Cape Falcon, OR

—U.S./Canada border to Cape Alava (Neah Bay Subarea)

June 19-July 3.

Open seven days per week. All salmon except coho salmon; one salmon per day (C.1). Chinook salmon minimum size limit of 24 inches total length (B). See gear restrictions and definitions (C.2, C.3).

July 4 through the earlier of September 15 or 5,730 marked coho salmon subarea quota, with a subarea guideline of 5,825 Chinook salmon (C.5).

Open seven days per week. All salmon, except no chum beginning August 1; two salmon per day. All coho salmon must be marked with a healed adipose fin clip (C.1). Chinook salmon minimum size limit of 24 inches total length; coho salmon minimum size limit 16 inches total length (C.4.a) during Council managed ocean fishery.

—Cape Alava to Queets River (La Push Subarea)

June 19-July 3 (C.5).

Open seven days per week. All salmon, except coho; two salmon per day (C.1). Chinook salmon minimum size limit of 24 inches total length (B). See gear restrictions and definitions (C.2, C.3).

July 4 through the earlier of September 15 or 1,430 marked coho salmon subarea quota with a subarea guideline of 1,300 Chinook salmon (C.5).

Open seven days per week. All salmon, except no chum salmon beginning August 1; two salmon per day. All coho salmon must be marked with a healed adipose fin clip (C.1). Chinook salmon minimum size limit of 24 inches total length, coho salmon minimum size limit of 16 inches total length (B). See gear restrictions and definitions (C.2, C.3).

—Queets River to Leadbetter Point (Westport Subarea)

June 19-26 (C.5).

Open seven days per week. All salmon, except coho salmon; one salmon per day (C.1). Chinook salmon minimum size limit of 22 inches total length (B). See gear restrictions and definitions (C.2, C.3).

June 27 through the earlier of September 15, or 20,440 marked coho salmon subarea quota, with a subarea guideline of 12,925 Chinook salmon (C.5).

Open five days per week (Sunday-Thursday). All salmon; two salmon per day, no more than one of which may be a Chinook salmon. All coho salmon must be marked with a healed adipose fin clip (C.1). Chinook salmon minimum size limit of 22 inches total length; coho salmon minimum size limit 16 inches total length (B). See gear restrictions and definitions (C.2, C.3). Grays Harbor Control Zone closed beginning August 9 (C.4.b).

—Leadbetter Point to Cape Falcon (Columbia River Subarea)

June 19-26 (C.5).

Open seven days per week. All salmon, except coho salmon; one salmon per day (C.1). Chinook salmon minimum size limit of 22 inches total length (B). See gear restrictions and definitions (C.2, C.3).

June 27 through the earlier of September 15, or 42,400 marked coho salmon subarea quota, with a subarea guideline of 7.200 Chinook salmon (C.5).

Open seven days per week. All salmon; two salmon per day, no more than one of which may be a Chinook salmon. All coho salmon must be marked with a healed adipose fin clip (C.1). Chinook salmon minimum size limit of 22 inches total length; coho salmon minimum size limit of 16 inches total length (B). See gear restrictions and definitions (C.2, C.3). Columbia Control Zone closed (C.4.c).

For all Recreational fisheries north of Cape Falcon: Inseason management may be used to sustain season length and keep harvest within the overall Chinook salmon and coho salmon recreational total allowable catches TACs for north of Cape Falcon (C.5).

South of Cape Falcon, OR

—Cape Falcon to Humbug Mountain

March 15-May 15. Open for all salmon exept coho salmon, except as listed below for mark selective and non-mark selective coho salmon seasons;

May 16-October 31. Open for all salmon except coho salmon, except as listed below for mark selective and non-mark selective coho salmon seasons;

Mark selective coho salmon season: June 12-August 28 or 120,000 marked coho salmon quota. Open area extends to the Oregon/California border. Open for all salmon, all retained coho salmon must be marked with a healed adipose fin clip;

Non-mark selective coho salmon season: September 10-12, and each Friday, Saturday, and Sunday through the earlier of September 30, or 14,000 non-mark selective coho quota. Open for all salmon (C.5, C.6). Open days may be modified inseason.

Two salmon per day (C.1). See minimum size limits (B). See gear restrictions and definitions (C.2, C.3). Any remainder of the mark selective coho salmon quota may be transferred inseason on an impact neutral basis to the non-mark selective coho quota (C.5).

In 2022, the season will open March 15 for all salmon except coho salmon, two salmon per day (C.1). Chinook salmon minimum size limit of 24 inches total length (B); and the same gear restrictions as in 2021 (C.2, C.3). This opening could be modified following Council review at its March 2022 meeting.

—Humbug Mountain to Oregon/California border (Oregon KMZ)

June 12-18. Open for all salmon except Chinook salmon, all coho salmon must be marked with a healed adipose fin clip;

June 19-August 15. Open for all salmon, all coho salmon must be marked with a healed adipose fin clip. Coho salmon retention closes when the Cape Falcon to Oregon/California border quota of 120,000 coho salmon is attained.

August 16-28. Open for all salmon except Chinook salmon, all coho salmon must be marked with a healed adipose fin clip. All salmon fishing closes in this area the earlier of August 28 or the Cape Falcon to Oregon/California border quota of 120,000 coho salmon.

Open seven days per week. Two salmon per day (C.1). See minimum size limits (B). See gear restrictions and definitions (C.2, C.3).

For recreational fisheries from Cape Falcon to Humbug Mountain: Fishing in the Stonewall Bank YRCA restricted to trolling only on days the all depth recreational halibut fishery is open (call the halibut fishing hotline 1-800-662-9825 for specific dates) (C.3.b, C.4.d).

—Oregon/California border to Latitude 40°10′0″ N (California KMZ)

June 29-August 1 (C.6).

Open seven days per week. All salmon except coho salmon, two salmon per day (C.1). Chinook salmon minimum size limit of 20 inches total length (B). See gear restrictions and definitions (C.2, C.3).

Klamath Control Zone closed in August (C.4.e). See California State regulations for additional closures adjacent to the Smith, Eel, and Klamath Rivers.

In 2022, season opens May 1 for all salmon except coho salmon, two salmon per day (C.1). Chinook salmon minimum size limit of 20 inches total length (B); and the same gear restrictions as in 2021 (C.2, C.3). This opening could be modified following Council review at its March or April 2022 meetings.

—Latitude 40°10′0″ N to Point Arena (Fort Bragg)

June 29-October 31 (C.6). Open seven days per week. All salmon except coho salmon, two salmon per day (C.1). Chinook salmon minimum size limit of 20 inches total length (B). See gear restrictions and definitions (C.2, C.3).

In 2022, season opens April 2 for all salmon except coho salmon, two salmon per day (C.1). Chinook salmon minimum size limit of 20 inches total length (B); and the same gear restrictions as in 2021 (C.2, C.3). This opening could be modified following Council review at its March 2022 meeting.

—Point Arena to Pigeon Point (San Francisco)

June 26-October 31 (C.6). Open seven days per week. All salmon except coho salmon, two salmon per day (C.1). Chinook salmon minimum size limit of 20 inches total length (B). See gear restrictions and definitions (C.2, C.3).

In 2022, season opens April 2 for all salmon except coho salmon, two salmon per day (C.1). Chinook salmon minimum size limit of 24 inches total length (B); and the same gear restrictions as in 2021 (C.2, C.3). This opening could be modified following Council review at its March 2022 meeting.

—Pigeon Point to U.S./Mexico border (Monterey)

April 3-May 15 (C.6). Open seven days per week. All salmon except coho salmon, two salmon per day (C.1). Chinook salmon minimum size limit of 24 inches total length (B). See gear restrictions and definitions (C.2, C.3).

In 2022, season opens April 2 for all salmon except coho salmon, two salmon per day (C.1). Chinook salmon minimum size limit of 24 inches total length (B); and the same gear restrictions as in 2021 (C.2, C.3). This opening could be modified following Council review at its March 2021 meeting.

California State regulations require all salmon be made available to a CDFW representative for sampling immediately at port of landing. Any person in possession of a salmon with a missing adipose fin, upon request by an authorized agent or employee of the CDFW, shall immediately relinquish the head of the salmon to the state (California Code of Regulations Title 14 Section 1.73).

B. Minimum Size (Total Length in Inches) (See C.1)

Table 2—Minimum Size Limits for Salmon in the 2021 Recreational Salmon Fisheries
Area (when open) | Chinook | Coho | Pink
North of Cape Falcon (Westport and Columbia River) | 22.0 | 16.0 | None.
North of Cape Falcon (Neah Bay and La Push) | 24.0 | 16.0 | None.
Cape Falcon to Humbug Mountain | 24.0 | 16.0 | None.
Humbug Mt. to OR/CA border | 24.0 | 16.0 | None.
OR/CA border to Latitude 40°10′0″ N | 20.0 |  | 20.0.
Latitude 40°10′0″ N to Pt. Arena | 20.0 |  | 20.0.
Pt. Arena to Pigeon Pt | 20.0 |  | 20.0.
Pigeon Pt. to U.S./Mexico border (before May 16) | 24.0 |  | 24.0.
Pigeon Pt. to U.S./Mexico border (beginning May 16) | 20.0 |  | 20.0.
Metric equivalents: 24.0 in = 61.0 cm, 22.0 in = 55.9 cm, 20.0 in = 50.8 cm, and 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted prior to landing.

Ocean Boat Limits: Off the coast of Washington, Oregon, and California, each fisher aboard a vessel may continue to use angling gear until the combined daily limits of Chinook and coho salmon for all licensed and juvenile anglers aboard have been attained (additional state restrictions may apply).

C.2. Gear Restrictions

Salmon may be taken only by hook and line using barbless hooks. All persons fishing for salmon, and all persons fishing from a boat with salmon on board, must meet the gear restrictions listed below for specific areas or seasons.

a. U.S./Canada border to Point Conception, CA: No more than one rod may be used per angler; and no more than two single point, single shank barbless hooks are required for all fishing gear.

b. Latitude 40°10′0″ N to Point Conception, CA: Single point, single shank, barbless circle hooks (see gear definitions below) are required when fishing with bait by any means other than trolling, and no more than two such hooks shall be used. When angling with two hooks, the distance between the hooks must not exceed five inches when measured from the top of the eye of the top hook to the inner base of the curve of the lower hook, and both hooks must be permanently tied in place (hard tied). Circle hooks are not required when artificial lures are used without bait.

C.3. Gear Definitions

a. Recreational fishing gear defined: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed four pounds (1.8 kg). While fishing off California north of Point Conception, no person fishing for salmon, and no person fishing from a boat with salmon on board, may use more than one rod and line. Fishing includes any activity which can reasonably be expected to result in the catching, taking, or harvesting of fish.

b. Trolling defined: Angling from a boat or floating device that is making way by means of a source of power, other than drifting by means of the prevailing water current or weather conditions.

c. Circle hook defined: A hook with a generally circular shape and a point which turns inward, pointing directly to the shank at a 90° angle.

C.4. Control Zone Definitions

a. The Bonilla-Tatoosh Line: A line running from the western end of Cape Flattery to Tatoosh Island Lighthouse (48°23′30″ N lat., 124°44′12″ W long.) to the buoy adjacent to Duntze Rock (48°24′37″ N lat., 124°44′37″ W long.), then in a straight line to Bonilla Point (48°35′39″ N lat., 124°42′58″ W long.) on Vancouver Island, British Columbia.

b. Grays Harbor Control Zone: The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

c. Columbia Control Zone: An area at the Columbia River mouth, bounded on the west by a line running northeast/southwest between the red lighted Buoy #4 (46°13′35″ N lat., 124°06′50″ W long.) and the green lighted Buoy #7 (46°15′09″ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long.), and then along the north jetty to the point of intersection with the Buoy #10 line; and on the south, by a line running northeast/southwest between the red lighted Buoy #4 and tip of the south jetty (46°14′03″ N lat., 124°04′05″ W long.), and then along the south jetty to the point of intersection with the Buoy #10 line.

d. Stonewall Bank YRCA: The area defined by the following coordinates in the order listed:

44°37.46′ N lat.; 124°24.92′ W long.

44°37.46′ N lat.; 124°23.63′ W long.

44°28.71′ N lat.; 124°21.80′ W long.

44°28.71′ N lat.; 124°24.10′ W long.

44°31.42′ N lat.; 124°25.47′ W long.

and connecting back to 44°37.46′ N lat.; 124°24.92′ W long.

e. Klamath Control Zone: The ocean area at the Klamath River mouth bounded on the north by 41°38′48″ N lat. (approximately 6 nautical miles north of the Klamath River mouth); on the west by 124°23′00″ W long. (approximately 12 nautical miles off shore); and, on the south by 41°26′48″ N lat. (approximately 6 nautical miles south of the Klamath River mouth).

C.5. Inseason Management

Regulatory modifications may become necessary inseason to meet preseason management objectives such as quotas, harvest guidelines, and season duration. In addition to standard inseason actions or modifications already noted under the season description, the following inseason guidance applies:

a. Actions could include modifications to bag limits, or days open to fishing, and extensions or reductions in areas open to fishing.

b. Coho may be transferred inseason among recreational subareas north of Cape Falcon to help meet the recreational season duration objectives (for each subarea) after conferring with representatives of the affected ports and the Council's SAS recreational representatives north of Cape Falcon, and if the transfer would not result in exceeding preseason impact expectations on any stocks.

c. Chinook and coho salmon may be transferred between the recreational and commercial fisheries north of Cape Falcon if there is agreement among the representatives of the SAS, and if the transfer would not result in exceeding preseason impact expectations on any stocks.

d. Fishery managers may consider inseason action modifying regulations restricting retention of unmarked (adipose fin intact) coho salmon. To remain consistent with preseason expectations, any inseason action shall consider, if significant, the difference between observed and preseason forecasted (adipose-clipped) mark rates. Such a consideration may also include a change in bag limit of two salmon, no more than one of which may be a coho.

e. Marked coho salmon remaining from the Cape Falcon to the Oregon/California border: Recreational mark selective coho salmon quota may be transferred inseason to the Cape Falcon to Humbug Mountain non-mark selective recreational fishery, if the transfer would not result in exceeding preseason impact expectations on any stocks.

f. Inseason modifications to salmon management areas (e.g., establishing a sub-area boundary) is allowed if the boundary is described as a landmark in section C.7, and if the change would not result in exceeding preseason impact expectations on any stocks.

C.6. Additional Seasons in State Territorial Waters

Consistent with Council management objectives, the states of Washington, Oregon, and California may establish limited seasons in state waters. Check state regulations for details.

C.7. Latitudes for Geographical Reference of Major Landmarks Along the West Coast, Including Those Used for Inseason Modifications to Salmon Management Areas (C.5.f.) Are Listed in Section 5 of This Rule

Section 3. Treaty Indian Management Measures for 2021 Ocean Salmon Fisheries

Parts A, B, and C of this section contain requirements that must be followed for lawful participation in the fishery.

A. Season Descriptions

May 1 through the earlier of June 30 or 20,000 Chinook salmon quota.

All salmon may be retained except coho. If the Chinook salmon quota is exceeded, the excess will be deducted from the later all salmon season (C.5). See size limit (B) and other restrictions (C).

July 1 through the earlier of September 15, or 20,000 Chinook salmon quota, or 26,500 coho salmon quota.

All Salmon. See size limit (B) and other restrictions (C).

In 2022, the season will open May 1, consistent with all preseason regulations in place for Treaty Indian troll fisheries during May 16-June 30, 2021. All catch in May 2022 applies against the 2022 Treaty Indian Troll fisheries quota. This opening could be modified following Council review at its March and/or April 2022 meetings.

B. Minimum Size (Inches)

Table 3—Minimum Size Limits for Salmon in the 2021 Treaty Indian Ocean Salmon Fisheries
Area (when open) | Chinook: Total | Chinook: Head-off | Coho: Total | Coho: Head-off | Coho: Pink
North of Cape Falcon | 24.0 | 18.0 | 16.0 | 12.0 | None
Metric equivalents: 24.0 in = 61.0 cm, 18.0 in = 45.7 cm, 16.0in = 40.6 cm, 12.0 in = 30.5 cm.

C. Requirements, Restrictions, and Exceptions

C.1. Tribe and Area Boundaries

All boundaries may be changed to include such other areas as may hereafter be authorized by a Federal court for that tribe's treaty fishery.

S'KLALLAM—Washington State Statistical Area 4B (defined to include those waters of Puget Sound easterly of a line projected from the Bonilla Point Light on Vancouver Island to the Tatoosh Island light, thence to the most westerly point on Cape Flattery, and westerly of a line projected true north from the fishing boundary marker at the mouth of the Sekiu River [WAC 220-301-030]).

MAKAH—Washington State Statistical Area 4B and that portion of the fishery management area (FMA) north of 48°02′15″ N lat. (Norwegian Memorial) and east of 125°44′00″ W long.

QUILEUTE—A polygon commencing at Cape Alava, located at latitude 48°10′00″ north, longitude 124°43′56.9″ west; then proceeding west approximately forty nautical miles at that latitude to a northwestern point located at latitude 48°10′00″ north, longitude 125°44′00″ west; then proceeding in a southeasterly direction mirroring the coastline at a distance no farther than 40 nmi from the mainland Pacific coast shoreline at any line of latitude, to a southwestern point at latitude 47°31′42″ north, longitude 125°20′26″ west; then proceeding east along that line of latitude to the Pacific coast shoreline at latitude 47°31′42″ north, longitude 124°21′9.0″ west (per court order dated March 5, 2018, Federal District Court for the Western District of Washington).

HOH—That portion of the FMA between 47°54′18″ N lat. (Quillayute River) and 47°21′00″ N lat. (Quinault River) and east of 125°44′00″ W long.

QUINAULT—A polygon commencing at the Pacific coast shoreline near Destruction Island, located at latitude 47°40′06″ north, longitude 124°23′51.362″ west; then proceeding west approximately 30 nmi at that latitude to a northwestern point located at latitude 47°40′06″ north, longitude 125°08′30″ west; then proceeding in a southeasterly direction mirroring the coastline no farther than 30 nmi from the mainland Pacific coast shoreline at any line of latitude, to a southwestern point at latitude 46°53′18″ north, longitude 124°53′53″ west; then proceeding east along that line of latitude to the Pacific coast shoreline at latitude 46°53′18″ north, longitude 124°7′36.6″ west (per court order dated March 5, 2018, Federal District Court for the Western District of Washington).

C.2. Gear Restrictions

a. Single point, single shank, barbless hooks are required in all fisheries.

b. No more than eight fixed lines per boat.

c. No more than four hand held lines per person in the Makah area fishery (Washington State Statistical Area 4B and that portion of the FMA north of 48°02′15″ N lat. (Norwegian Memorial) and east of 125°44′00″ W long.).

C.3. Quotas

a. The quotas include troll catches by the S'Klallam and Makah Tribes in Washington State Statistical Area 4B from May 1 through September 15.

b. The Quileute Tribe will continue a ceremonial and subsistence fishery during the time frame of October 1 through October 15 in the same manner as in 2004-2015. Fish taken during this fishery are to be counted against treaty troll quotas established for the 2021 season (estimated harvest during the October ceremonial and subsistence fishery: 20 Chinook salmon; 40 coho salmon).

C.4. Area Closures

a. The area within a six nautical mile radius of the mouths of the Queets River (47°31′42″ N lat.) and the Hoh River (47°45′12″ N lat.) will be closed to commercial fishing.

b. A closure within two nautical miles of the mouth of the Quinault River (47°21′00″ N lat.) may be enacted by the Quinault Nation and/or the State of Washington and will not adversely affect the Secretary of Commerce's management regime.

C.5. Inseason Management: In addition to standard inseason actions or modifications already noted under the season description, the following inseason guidance applies:

a. Chinook salmon remaining from the May through June treaty Indian ocean troll harvest guideline north of Cape Falcon may be transferred to the July through September harvest guideline on a fishery impact equivalent basis.

Section 4. Halibut Retention

Under the authority of the Northern Pacific Halibut Act, NMFS promulgated regulations governing the Pacific halibut fishery, which appear at 50 CFR part 300, subpart E. On March 9, 2021, NMFS published a final rule announcing the IPHC's regulations, including season dates, management measures, TACs for each IPHC management area including the U.S. West Coast (Area 2A) and Catch Sharing Plan for the U.S. waters off of Alaska (86 FR 13475, March 9, 2021). The Area 2A Catch Sharing Plan, in combination with the IPHC regulations, provides that vessels participating in the salmon troll fishery in Area 2A, which have obtained the appropriate IPHC license, may retain halibut caught incidentally during authorized periods in conformance with provisions published with the annual salmon management measures. A salmon troller may participate in the halibut incidental catch fishery during the salmon troll season or in the directed commercial fishery targeting halibut, but not both.

The following measures have been approved by the IPHC, and implemented by NMFS. During authorized periods, the operator of a vessel that has been issued an incidental halibut harvest license may retain Pacific halibut caught incidentally in Area 2A while trolling for salmon. Halibut retained must be no less than 32 inches (81.28 cm) in total length, measured from the tip of the lower jaw with the mouth closed to the extreme end of the middle of the tail, and must be landed with the head on.

License applications for incidental harvest must be obtained from the IPHC (phone: 206-634-1838). Applicants must apply prior to mid-March 2022 for 2022 permits (exact date to be set by the IPHC in early 2022). Incidental harvest is authorized only during April, May, and June of the 2021 troll seasons and after June 30 in 2021 if quota remains and if announced on the NMFS hotline (phone: 800-662-9825 or 800-526-6667). WDFW, ODFW, and CDFW will monitor landings. If the landings are projected to exceed the 44,899 pound preseason allocation or the total Area 2A non-Indian commercial halibut allocation, NMFS will take inseason action to prohibit retention of halibut in the non-Indian salmon troll fishery.

From May 16, 2021, until the end of the 2021 salmon troll season, and beginning April 1, 2022, until modified through insesason action or superseded by the 2022 management measures, license holders may land or possess no more than one Pacific halibut per each two Chinook salmon, except one Pacific halibut may be possessed or landed without meeting the ratio requirement, and no more than 35 halibut may be possessed or landed per trip. Pacific halibut retained must be no less than 32 inches in total length (with head on). IPHC license holders must comply with all applicable IPHC regulations.

Incidental Pacific halibut catch regulations in the commercial salmon troll fishery adopted for 2021, prior to any 2021 inseason action, will be in effect when incidental Pacific halibut retention opens on April 1, 2022, unless otherwise modified by inseason action at the March 2022 Council meeting.

NMFS and the Council request that salmon trollers voluntarily avoid a “C-shaped” YRCA (also known as the Salmon Troll YRCA) in order to protect yelloweye rockfish. Coordinates for the Salmon Troll YRCA are defined at 50 CFR 660.70(a) in the North Coast subarea (Washington marine area 3). See Section 1.C.7 in this document for the coordinates.

Section 5. Geographical Landmarks

Wherever the words “nautical miles off shore” are used in this document, the distance is measured from the baseline from which the territorial sea is measured.

Geographical landmarks referenced in this document are at the following locations:

U.S./Canada border 49°00′00″ N lat.

Cape Flattery, WA 48°23′00″ N lat.

Cape Alava, WA 48°10′00″ N lat.

Queets River, WA 47°31′42″ N lat.

Leadbetter Point, WA 46°38′10″ N lat.

Cape Falcon, OR 45°46′00″ N lat.

South end Heceta Bank Line, OR 43°58′00″ N lat.

Florence South Jetty, OR 44°00′54″ N lat.

Humbug Mountain, OR 42°40′30″ N lat.

Oregon-California border 42°00′00″ N lat.

Humboldt South Jetty, CA 40°45′53″ N lat.

40°10′ line (near Cape Mendicino, CA) 40°10′00″ N lat.

Horse Mountain, CA 40°05′00″ N lat.

Point Arena, CA 38°57′30″ N lat.

Point Reyes, CA 37°59′44″ N lat.

Point San Pedro, CA 37°35′40″ N lat.

Pigeon Point, CA 37°11′00″ N lat.

Point Sur, CA 36°18′00″ N lat.

Point Conception, CA 34°27′00″ N lat.

U.S./Mexico border 34°27′00″ N lat.

Section 6. Inseason Notice Procedures

Notice of inseason management actions will be provided by a telephone hotline administered by the West Coast Region, NMFS, 800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishermen should monitor either the telephone hotline or USCG broadcasts for current information for the area in which they are fishing.

Classification

NMFS is issuing this rule pursuant to 305(d) of the MSA. In a previous action taken pursuant to section 304(b), the Council designed the FMP to authorize NMFS to take this action pursuant to MSA section 305(d). See 50 CFR 660.408. These regulations are being promulgated under the authority of 16 U.S.C. 1855(d) and 16 U.S.C. 773(c).

This final rule has been determined to be not significant for purposes of Executive Order 12866.

The Assistant Administrator for Fisheries finds good cause under 5 U.S.C. 553(b)(B), to waive the requirement for prior notice and opportunity for public comment, as such procedures would be impracticable and contrary to the public interest.

The annual salmon management cycle begins May 16 and continues through April 30 of the following year. May 16 was chosen because it provides the miniminally necessary time required to complete the necessary environmental and economic analyses and regulatory documentation following the April Council meeting in time for the Secretary of Commerce to approve and implement the Council's annual recommendation. In addition, these harvests constitute a relatively small portion of the annual catch, allowing for the majority of the season to be governed by the new management measures rule. Analysis by the Council's Salmon Technical Team determined that the pre-May 16 salmon harvests would constitute a relatively small portion of the annual catch. The time frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from previous years' observed spawning escapement, vary substantially from year to year, and are not available until January or February because spawning escapement continues through the fall.

The preseason planning and public review process associated with developing Council recommendations is initiated in February as soon as the forecast information becomes available. The public planning process requires coordination of management actions of four states, numerous Indian tribes, and the Federal Government, all of which have management authority over the stocks. This complex process includes the affected user groups, as well as the general public. The process is compressed into a two-month period culminating with the April Council meeting at which the Council adopts a recommendation that is forwarded to NMFS for review, approval, and implementation of fishing regulations effective on May 16. Providing opportunity for prior notice and public comments on the Council's recommended measures through a proposed and final rulemaking process would require 30 to 60 days in addition to the two-month period required for development of the regulations. Delaying implementation of annual fishing regulations, which are based on the current stock abundance projections, for an additional 60 days would require that fishing regulations for May and June be set in the previous year, without the benefit of information regarding current stock abundance. For the 2021 fishing regulations, the current stock abundance was not available to the Council until February. In addition, information related to northern fisheries and stock status in Alaska and Canada which is important to assessing the amount of available salmon in southern U.S. ocean fisheries is not available until mid- to late-March. Because a substantial amount of fishing normally occurs during late-May and June, managing the fishery with measures developed using the prior year's data could have significant adverse effects on the managed stocks, including ESA-listed stocks. Although salmon fisheries that open prior to May 16 are managed under measures developed the previous year, as modified by the Council at its March and April meetings, relatively little harvest occurs during that period (e.g., on average, 10 percent of commercial and recreational harvest occurred prior to May 1 during the years 2011 through 2018). Allowing the much more substantial harvest levels normally associated with the late-May and June salmon seasons to be promulgated under the prior year's regulations would impair NMFS' ability to protect weak and ESA-listed salmon stocks, and to provide harvest opportunity where appropriate. The choice of May 16 as the beginning of the regulatory season balances the need to gather and analyze the data needed to meet the management objectives of the Salmon FMP and the need to manage the fishery using the best available scientific information.

If the 2021 measures are not in place on May 16, salmon fisheries will not open as scheduled. This would result in lost fishing opportunity, negative economic impacts, and confusion for the public as the state fisheries adopt concurrent regulations that conform to the Federal management measures.

In addition, these measures were developed with significant public input. Public comment was received and considered by the Council and NMFS throughout the process of developing these management measures. As described above, the Council took comment at its March and April meetings, and heard summaries of comments received at public meetings held between the March and April meetings for each of the coastal states. NMFS also invited comments in a notice published prior to the March Council meeting, and considered comments received by the Council through its representative on the Council.

Based upon the above-described need to have these measures effective on May 16, and the fact that there is limited time available to implement these new measures after the final Council meeting in April, and before the commencement of the 2021 ocean salmon fishing year on May 16, NMFS has concluded it would be impracticable and contrary to the public interest to provide an opportunity for prior notice and public comment under 5 U.S.C. 553(b)(B).

The Assistant Administrator for Fisheries also finds that good cause exists under 5 U.S.C. 553(d)(3), to waive the 30-day delay in effectiveness of this final rule. As previously discussed, data were not available until February and management measures were not finalized until mid-April. These measures are essential to conserve threatened and endangered ocean salmon stocks as well as potentially overfished stocks, and to provide for harvest of more abundant stocks. Delaying the effectiveness of these measures by 30 days could compromise the ability of some stocks to attain their conservation objectives, preclude harvest opportunity, and negatively impact anticipated international, state, and tribal salmon fisheries, thereby undermining the purposes of this agency action and the requirements of the MSA.

To enhance the fishing industry's notification of these new measures, and to minimize the burden on the regulated community required to comply with the new regulations, NMFS is announcing the new measures over the telephone hotline used for inseason management actions and is posting the regulations on its West Coast Region website (www.fisheries.noaa.gov/region/west-coast). NMFS is also advising the states of Washington, Oregon, and California of the new management measures. These states announce the seasons for applicable state and Federal fisheries through their own public notification systems.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This action contains collection-of-information requirements subject to the Paperwork Reduction Act (PRA), and which have been approved by the Office of Management and Budget (OMB) under control number 0648-0433. The current information collection approval expires on February 29, 2024. The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

This final rule was developed after meaningful consultation with the tribal representative on the Council who has agreed with the provisions that apply to tribal vessels.

Authority: 16 U.S.C. 773-773k; 1801 et seq.

Dated: May 7, 2021.
Samuel D. Rauch, III,
Deputy Assistant Administrator for Regulatory Programs, National Marine Fisheries Service.

[FR Doc. 2021-10035 Filed 5-13-21; 8:45 am]

BILLING CODE 3510-22-P